DEPARTMENT OF HEALTH AND HUMAN SERVICES

[Document Identifier: 4040-0001]

Agency Information Collection Request. 60-Day Public Comment Request, Grants.gov

AGENCY: Office of the Secretary, HHS.

In compliance with the requirement of section 3506(c)(2)(A) of the Paperwork Reduction Act of 1995, Grants.gov (EGOV), Department of Health and Human Services, is publishing the following summary of a revision to an information collection for public comment. Interested persons are invited to send comments regarding this burden estimate or any other aspect of this collection of information, including any of the following subjects: (1) The necessity and utility of the proposed revision to the information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, to Ed.Calimag@hhs.gov, or call the Reports Clearance Office on (202) 690-7569. Send written comments and recommendations for the proposed information collections within 60 days of this notice directly to the Grants.gov.

Proposed Project

Research and Related Other Project Information Form

Revision of a Currently Approved Collection.

Office: Grants.gov.

Abstract: Grant applicants are required to provide additional information as a supplement to their application for Federal assistance to awarding agencies using the Research and Related Other Project Information form. If applicants use human subjects in their research, the applicant must adhere to 45 CFR 46 Subpart A, The Federal Policy for the Protection of Human Subjects (Common Rule). The Common Rule defined six exemptions from research guidelines. Two additional exemptions were added to revisions of the Common Rule on January 17, 2017 for a total of eight exemptions. The Research and Related Other Project Information form must be updated in order to accommodate the additional two exemptions.

Total Estimated Annualized Burden Hours
Form name | Number of respondents | Number of responses per respondent | Average burden per response (in hours) | Total burden hours
Research and Related Other Project Information | 137,669 | 1 | 1 | 137,669
Total | 137,669 |  |  | 137,669

Terry S. Clark,
Asst Information Collection Clearance Officer.

[FR Doc. 2017-09638 Filed 5-11-17; 8:45 am]

BILLING CODE 4151-AE-P